DEPARTMENT OF HEALTH AND HUMAN SERVICES

Administration for Children and Families

Submission for OMB Review; Comment Request

Title: “Building Strong Families Demonstration and Evaluation.”

OMB No.: New Collection.

Description: Currently, the Administration for Children and Families, Department of Health and Human Services, is conducting the project entitled “Building Strong Families Demonstration and Evaluation.” The purpose of the project is to determine whether well-designed interventions can help low-income, unwed parents who are interested in marriage, fulfill their aspirations for a healthy marriage and strong family. The project plan includes obtaining information from focus groups of low-income men and women who have had a child out-of-wedlock. Information from the focus groups will provide a better understanding of the needs and interests of these men and women and aid in the design of interventions that address those needs and interests. At a later stage, the project will assess the net impact of interventions with couples beginning round the time of the birth of their child.

Focus groups participants' input will be sought to help design programs to help interested couples strengthen their relationship, achieve a healthy marriage if that is the path they choose, and thus, enhance child and family well-being. It is expected that programs will be designed around two main components. First, the programs will provide instruction in the skills and knowledge that research has shown to be associated with increased quality and stability in relationships and marriage. This focus is the distinctive component of the Building Strong Families Demonstration and Evaluation. In addition, programs to be tested will help couples access other services that they may need to sustain a healthy relationship and marriage (e.g., mental health services, employment services).

Respondents: The respondents for the Focus Group Protocols and information sheets are to be low-income, unmarried, expectant or recent parents and newly married couples with children who volunteer to participate. The attendance goal for each group is 8 to 12 people. Approximately 26 focus groups are expected to be convened for a total of 208 to 312 respondents.

Annual Burden Estimates:

Table 1.—Estimates of Annualized Burden Hours
Data collection instrument | Number of respondents | Number of responses per respondent | Average burden hours per response | Total burden hours
Focus Group Protocol | 312 | 1 | 1.5 | 468.0
Information Sheet | 312 | 1 | 0.1 | 31.2
Total |  |  | 1.6 | 499.2

Additional Information: Copies of the proposed collection may be obtained by writing to the Administration for Children and Families, Office of Administration, Office of Information Services, 370 L'Enfant Promenade, SW., Washington, DC 20447, Attn: ACF Reports Clearance Officer. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF, E-mail address: lauren_wittenberg@omb.eop.gov.

Dated: October 28, 2003.
Robert Sargis,
Reports Clearance Officer.

[FR Doc. 03-27614 Filed 11-3-03; 8:45 am]

BILLING CODE 4184-01-M